ENVIRONMENTAL PROTECTION AGENCY

[FRL-9909-33-OA]

Notification of a Public Teleconference of the Science Advisory Board Chemical Assessment Advisory Committee Augmented for the Review of EPA's Draft Ammonia Assessment; Date Correction

AGENCY: Environmental Protection Agency.

ACTION: Notice.

SUMMARY: The Environmental Protection Agency (EPA) Science Advisory Board (SAB) Staff Office previously announced in the Federal Register on March 25, 2014 (79 FR 16326-16327) an incorrect date for the teleconference of the SAB Chemical Assessment Advisory Committee Augmented for the Review of the Draft Ammonia Assessment (CAAC-Ammonia Panel).

DATES: The public teleconference will be held on June 2, 2014, from 1:00 p.m. to 5:00 p.m. (Eastern Time) not June 4, 2014 as previously announced.

FOR FURTHER INFORMATION CONTACT: Any member of the public who wants further information concerning the public meeting may contact Dr. Sue Shallal, Designated Federal Officer (DFO) for the CAAC-Ammonia Panel, by telephone at (202) 564-2057 or via email at shallal.suhair@epa.gov. Additional information about this advisory activity, can be found at the following URL: http://yosemite.epa.gov/sab/sabproduct.nsf/fedrgstr_activites/IRIS%20Ammonia?OpenDocument. A meeting agenda and other meeting materials will be posted at the above noted URL prior to the meeting.

Dated: April 3, 2014.
Christopher S. Zarba,
Acting Deputy Director, EPA Science Advisory Board Staff Office.

[FR Doc. 2014-07923 Filed 4-8-14; 8:45 am]

BILLING CODE 6560-50-P